Title 3—

The President

Proclamation 9275 of May 7, 2015

Military Spouse Appreciation Day, 2015

By the President of the United States of America

A Proclamation

The strength of our Nation's military comes not just from the brave women and men who defend the values we cherish, but also from their families, who serve alongside them and make great sacrifices in service to our country. With determination and unshakable resolve, military spouses endure long absences and shoulder the burdens of war, constantly wondering what kind of dangers lie ahead for their loved ones. Through numerous moves and difficult deployments—often as they uproot their lives and families and restart their careers—their steadfast devotion to their spouses and to our Nation represents the best our country has to offer. On Military Spouse Appreciation Day, we recognize the selfless heroes who stand with the finest fighting force the world has ever known, and we honor their relentless courage and commitment.

To fulfill our sacred promise to our service members and their loved ones, my Administration has made supporting our military families a top priority. We are working to make consistent and effective family services available, including mental health care and counseling, deployment and relocation assistance, and child care and youth programs. Through programs like the Post-9/11 GI Bill, we are investing in the education and skills of our military families, and with my Executive authority, I have taken action to protect those who have earned these benefits from abuse by fraudulent actors and unscrupulous practices, ensuring they have the proper information and support they need to make informed decisions about their education.

The wives, husbands, and partners of our service members bring adaptability, creativity, resilience, and leadership—skills they demonstrate every day—to the workforce, and it is unacceptable when any military spouse struggles to find work and support their family. That is why we launched the Military Spouse Employment Partnership, an online resource to connect military spouses with meaningful career opportunities and companies that are eager to hire them. And we are reminding businesses across our country that if they want the job done right, they should hire a military spouse.

Four years ago, First Lady Michelle Obama and Dr. Jill Biden launched the Joining Forces initiative, calling on Americans across our country to rally around service members, veterans, and their spouses. By raising awareness about the unique aspects of military life, they are helping ensure military spouses have all the opportunities and benefits they deserve. To learn more and get involved, visit www.JoiningForces.gov.

Military spouses serve alongside our troops through trial and triumph, and in their example, we see the bravery and pride that reflect who we are as a Nation. These homefront heroes deserve respect and support worthy of their sacrifice and grace—every day, they should know their country supports them, is there for them, and is grateful for all they do on our behalf.

NOW, THEREFORE, I, BARACK OBAMA, President of the United States of America, by virtue of the authority vested in me by the Constitution and the laws of the United States, do hereby proclaim May 8, 2015, as Military Spouse Appreciation Day. I call upon the people of the United States to honor military spouses with appropriate ceremonies and activities.

IN WITNESS WHEREOF, I have hereunto set my hand this seventh day of May, in the year of our Lord two thousand fifteen, and of the Independence of the United States of America the two hundred and thirty-ninth.

[FR Doc. 2015-11616

Filed 5-11-15; 11:15 am]

Billing code 3295-F5